INTERNATIONAL TRADE COMMISSION

[Investigation No. 731-TA-1071 (Second Review)]

Alloy Magnesium From China; Determination

On the basis of the record ¹ developed in the subject five-year review, the United States International Trade Commission (“Commission”) determines, pursuant to the Tariff Act of 1930 (“the Act”), that revocation of the antidumping duty order on alloy magnesium from China would be likely to lead to continuation or recurrence of material injury to an industry in the United States within a reasonably foreseeable time.²

¹ The record is defined in sec. 207.2(f) of the Commission's Rules of Practice and Procedure (19 CFR 207.2(f)).

² Vice Chairman Dean A. Pinkert did not participate in this review.

Background

The Commission, pursuant to section 751(c) of the Act (19 U.S.C. 1675(c)), instituted this review on February 1, 2016 (81 FR 5136) and determined on May 6, 2016, that it would conduct an expedited review (81 FR 32346, May 23, 2016).

The Commission made this determination pursuant to section 751(c) of the Act (19 U.S.C. 1675(c)). It completed and filed its determination in this review on June 30, 2016. The views of the Commission are contained in USITC Publication 4618 (June 2016), entitled Alloy Magnesium from China: Investigation No. 731-TA-1071 (Second Review).

By order of the Commission.
Issued: June 30, 2016.
Lisa R. Barton,
Secretary to the Commission.

[FR Doc. 2016-16044 Filed 7-6-16; 8:45 am]

BILLING CODE 7020-02-P